DEPARTMENT OF COMMERCE

National Oceanic and Atmospheric Administration

RIN 0648-XE610

North Pacific Fishery Management Council; Public Meetings

AGENCY: National Marine Fisheries Service (NMFS), National Oceanic and Atmospheric Administration (NOAA), Commerce.

ACTION: Notice of public meetings.

SUMMARY: The North Pacific Fishery Management Council (Council) and its advisory committees will meet June 6 through June 14, 2016.

DATES: The Council will begin its plenary session at 8 a.m. in the Pavilion Room, Kodiak Convention Center on Wednesday, June 8, continuing through Tuesday, June 14, 2016. The Scientific and Statistical Committee (SSC) will begin at 8 a.m. in the Harbor Room, Kodiak Best Western on Monday, June 6 and continue through Wednesday, June 8, 2016. The Council's Advisory Panel (AP) will begin at 8 a.m. at the Elks Lodge on Tuesday, June 7, and continue through Saturday, June 11, 2016. The Enforcement Committee will meet in the Stellar Room, Kodiak Convention Center (time and date to be determined). The Legislative Committee will meet in the Pavilion Room (time and date to be determined).

ADDRESSES: The Council meeting will be held at the Kodiak Harbor Convention Center, 236 Rezanof Drive, Kodiak, AK 99615. The SSC will meet at the Kodiak Best Western, 236 Rezanof Drive, Kodiak, AK 99615. The AP will meet at the Elks Lodge, 102 W. Marine Way, Kodiak, AK 99615.

Council address: North Pacific Fishery Management Council, 605 W. 4th Ave., Suite 306, Anchorage, AK 99501-2252; telephone: (907) 271-2809.

FOR FURTHER INFORMATION CONTACT: David Witherell, Council staff; telephone: (907) 271-2809.

SUPPLEMENTARY INFORMATION:

Agenda

Monday, June 6, 2016 Through Tuesday, June 14, 2016

Council Plenary Session: The agenda for the Council's plenary session will include the following issues. The Council may take appropriate action on any of the issues identified.

(1) Executive Director's Report

(2) NMFS Management Report (including update on recusal determination)

(3) NOAA Enforcement Report

(4) ADF&G Report

(5) USCG Report

(6) USFWS Report

(7) Protected Species Report

(8) NPRB Report

(9) Observer Program (a) Annual Report (b) Estimation Methods for Variance—(SSC only), and (c) Observer Advisory Committee (OAC) Report

(10) Bering Sea Aleutian Island (BSAI) Crab Plan Team Report

(11) BSAI 10-Year-Review

(12) Tanner Crab Custom Processing Cap

(13) Gulf of Alaska (GOA) Trawl Bycatch Management

(14) Squid to Ecosystem Component Category

(15) Determine Research Priorities

(16) Electronic Monitoring (EM)—Review Analytical Components (SSC Only)

(17) Pacific Cod Stock Assessment Models (SSC Only)

(18) Staff Tasking

The Advisory Panel will address most of the same agenda issues as the Council except B reports.

The SSC agenda will include the following issues:

(1) Observer Program—Estimation Methods for Variance

(2) Electronic Monitoring (EM)—Review Analytical Components

(3) Pacific Cod Stock Assessment Models

(4) BSAI Crab Plan Team Report

(5) BSAI Crab 10-Year-Review

(6) Tanner Crab Custom Processing Cap

(7) Squid to Ecosystem Component Category

(8) Research Priorities

In addition to providing ongoing scientific advice for fishery management decisions, the SSC functions as the Councils primary peer review panel for scientific information as described by the Magnuson-Stevens Act section 302(g)(1)(e), and the National Standard 2 guidelines (78 FR 43066). The peer review process is also deemed to satisfy the requirements of the Information Quality Act, including the OMB Peer Review Bulletin guidelines.

The Agenda is subject to change, and the latest version will be posted at http://www.npfmc.org/.

Special Accommodations

These meetings are physically accessible to people with disabilities. Requests for sign language interpretation or other auxiliary aids should be directed to Shannon Gleason at (907) 271-2809 at least 7 working days prior to the meeting date.

Dated: May 18, 2016.
Tracey L. Thompson,
Acting Deputy Director, Office of Sustainable Fisheries, National Marine Fisheries Service.

[FR Doc. 2016-12041 Filed 5-20-16; 8:45 am]

BILLING CODE 3510-22-P